ENVIRONMENTAL PROTECTION AGENCY

[EPA-HQ-OPPT-2023-0105; FRL-11712-01-OMS]

Agency Information Collection Activities; Submission to the Office of Management and Budget for Review and Approval; Comment Request; Regulation of Persistent, Bioaccumulative, and Toxic Chemicals Under TSCA Section 6(h) (Renewal)

AGENCY: Environmental Protection Agency (EPA).

ACTION: Notice.

SUMMARY: The Environmental Protection Agency (EPA) has submitted an information collection request (ICR), Regulation of Persistent, Bioaccumulative, and Toxic Chemicals under TSCA Section 6(h), (EPA ICR Number 2599.03, OMB Control Number 2070-0213) to the Office of Management and Budget (OMB) for review and approval in accordance with the Paperwork Reduction Act. This is a proposed extension of the ICR, which is currently approved through January 31, 2024. Public comments were previously requested via the Federal Register on March 10, 2023, during a 60-day comment period. This notice allows for an additional 30 days for public comments.

DATES: Comments may be submitted on or before February 28, 2024.

ADDRESSES: Submit your comments, referencing Docket ID Number EPA-HQ-OPP-2023-0105, to EPA online using www.regulations.gov (our preferred method or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Sleasman, Office of Program Support (7602M), Environmental Protection Agency, 1200 Pennsylvania Ave. NW, Washington, DC 20460-0001; telephone number: (202) 566-1204; email address: sleasman.katherine@epa.gov.

SUPPLEMENTARY INFORMATION: This is a proposed extension of the ICR, which is currently approved through January 31, 2024. An agency may not conduct or sponsor and a person is not required to respond to a collection of information unless it displays a currently valid OMB control number.

Public comments were previously requested via the Federal Register on March 10, 2023, during a 60-day comment period (88 FR 15019). This notice allows for an additional 30 days for public comments. Supporting documents, which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR covers the information collection activities associated with the prohibitions and restrictions on the following five chemical substances: decabromodiphenyl ether (decaBDE) (Chemical Abstract Services Number (CASRN) 1163-19-5), phenol, isopropylated phosphate (3:1) (PIP (3:1)) (CASRN 68937-41-7), 2,4,6-tris(tert-butyl)phenol (2,4,6-TTBP) (CASRN 732-26-3), pentachlorothiophenol (PCTP) (CASRN 133-49-3), and hexachlorobutadiene (HCBD) (CASRN 87-68-3).

Form Numbers: None.

Respondents/affected entities: Entities potentially affected are those that manufacture, process, distribute in commerce or use decaBDE, PIP (3:1), 2,4,6-TTBP, PCTP, HCBD, or products or articles containing these chemicals.

Respondent's obligation to respond: Mandatory (40 CFR 751).

Estimated number of respondents: 73 (total).

Frequency of response: On occasion.

Total estimated burden: 54 hours (per year). Burden is defined at 5 CFR 1320.3(b).

Total estimated costs: $4,287 (per year), which includes $0 annualized capital or operation & maintenance costs.

Changes in the estimates: There is a decrease of 34 hours in the total estimated respondent burden compared with the ICR currently approved by OMB. This decrease is due to EPA's updating of burden estimates for these chemicals under the rule. This change is an adjustment. It results from the fact that some firms are no longer expected to incur recordkeeping and downstream notification costs since they are prohibited from using the chemical(s) during the period this ICR covers.

Courtney Kerwin,
Director, Information Engagement Division.

[FR Doc. 2024-01672 Filed 1-26-24; 8:45 am]

BILLING CODE 6560-50-P